DEPARTMENT OF ENERGY

Federal Energy Regulatory Commission

18 CFR Part 35

[Docket No. RM20-16-000]

Managing Transmission Line Ratings; Correction

AGENCY: Federal Energy Regulatory Commission.

ACTION: Notice of proposed rulemaking; correction.

SUMMARY: The Federal Energy Regulatory Commission published a notice of proposed rulemaking in the Federal Register of January 21, 2021, seeking comments on reforming both the pro forma Open Access Transmission Tariff and the Commission's regulations under the Federal Power Act to improve the accuracy and transparency of transmission line ratings. As published in the Federal Register, the paragraph number for paragraph 66 was incorrectly omitted and all paragraphs subsequent to paragraph 66 were incorrectly numbered. This correction corrects the paragraph numbers.

DATES: The comments were due March 22, 2021.

FOR FURTHER INFORMATION CONTACT: Ryan Stroschein, Office of the General Counsel, Federal Energy Regulatory Commission, 888 First Street NE, Washington, DC 20426. (202) 502-8099

SUPPLEMENTARY INFORMATION:

Correction

In the Federal Register of January 21, 2021 at 86 FR 6420 in FR Doc. 2020-26107, on page 6430, in the first column, correct the paragraph that begins “NRECA states that while it would support a reasoned approach to implementing transmission line rating changes, it does not support a Commission mandate to implement either AARs or DLRs . . . .” by inserting paragraph number 66 at the beginning of that paragraph. Further, amend each paragraph number subsequent to corrected paragraph number 66 in the notice of proposed rulemaking so as to display them in an accurate numerical order.

Dated: April 15, 2021.
Kimberly D. Bose,
Secretary.

[FR Doc. 2021-08236 Filed 4-21-21; 8:45 am]

BILLING CODE 6717-01-P